DEPARTMENT OF THE INTERIOR

National Park Service

[NPS-WASO-NAGPRA-NPS0025638; PPWOCRADN0-PCU00RP14.R50000]

Notice of Inventory Completion: La Plata County Historical Society, Durango, CO; Correction

AGENCY: National Park Service, Interior.

ACTION: Notice; correction.

SUMMARY: The La Plata County Historical Society has corrected a Notice of Inventory Completion published in the Federal Register on April 4, 2018. This notice corrects a paragraph that contains an error.

ADDRESSES: Kathy McKenzie, Board President, La Plata County Historical Society, 3065 W 2nd Avenue, Durango, CO 81301, telephone (970) 259-2402, email director@animasmuseum.org.

SUPPLEMENTARY INFORMATION: This notice is published as part of the National Park Service's administrative responsibilities under NAGPRA, 25 U.S.C. 3003(d)(3). The determinations in this notice are the sole responsibility of the museum, institution, or Federal agency that has control of the Native American human remains. The National Park Service is not responsible for the determinations in this notice.

This notice corrects a Notice of Inventory Completion published in the Federal Register (83 FR 14490-14492, April 4, 2018). A paragraph summarizing the determinations made by the La Plata County Historical Society cited an incorrect reference in the original notice.

Correction

In the Federal Register (83 FR 14492, April 4, 2018), column 2, paragraph 1, under the heading “Determination Made by the La Plata County Historical Society, Durango, CO” is corrected by substituting the following paragraph:

Pursuant to 25 U.S.C. 3005(a), the repatriation of the human remains may be to The Tribes.

Dated: May 21, 2018.
Melanie O'Brien,
Manager, National NAGPRA Program.

[FR Doc. 2018-13043 Filed 6-15-18; 8:45 am]

BILLING CODE 4312-52-P